EXPORT-IMPORT BANK

[Public Notice: 2021-6003]

Agency Information Collection Activities: Comment Request

AGENCY: Export-Import Bank of the United States.

ACTION: Submission for OMB review and comments request.

SUMMARY: The Export-Import Bank of the United States (EXIM), as a part of its continuing effort to reduce paperwork and respondent burden, invites the general public and other Federal Agencies to comment on the proposed information collection, as required by the Paperwork Reduction Act of 1995. The collection provides EXIM staff with the information necessary to monitor the borrower's payments for exported goods covered under its short and medium-term export credit insurance policies. It also alerts EXIM staff of defaults, so they can manage the portfolio in an informed manner.

DATES: Comments must be received on or before April 9, 2021 to be assured of consideration.

ADDRESSES: Comments may be submitted electronically on WWW.REGULATIONS.GOV or by mail to Mia Johnson, Export-Import Bank of the United States, 811 Vermont Ave. NW Washington, DC 20571. Form can be viewed at https://www.exim.gov/sites/default/files/forms/eib10-05.pdf.

SUPPLEMENTARY INFORMATION: Title and Form Number: EIB 92-29 Export-Import Bank Report of Premiums Payable for Exporters Only.

OMB Number: 3048-0017.

Type of Review: Regular.

Need and Use: The “Report of Premiums Payable for Exporters Only” form is used by exporters to report and pay premiums on insured shipments to various foreign buyers under the terms of the policy and to certify that premiums have been correctly computed and remitted. Individual transactions that an exporter may have with the same foreign borrower can be sub-totaled and entered as a single line item for the specific month provided the length of payment term is identical. The use of sub-totals reduces the administrative burden on the exporter. The `Report of Premiums Payable for Exporters Only' is used by the Bank to determine the eligibility of the shipment(s) and to calculate the premium due to Ex-Im Bank for its support of the shipment(s) under its insurance program.

Affected Public: This form affects entities involved in the export of U.S. goods and services.

Annual Number of Respondents: 2600.

Estimated Time per Respondent: 15 minutes.

Annual Burden Hours: 650 hours.

Frequency of Reporting or Use: Monthly.

Government Expenses:

Reviewing Time per Year: 1,950 hours.

Average Wages per Hour: $42.50.

Average Cost per Year: $82,875.

Benefits and Overhead: 20%.

Total Government Cost: $99,450.

Bassam Doughman,
IT Specialist.

[FR Doc. 2021-02541 Filed 2-5-21; 8:45 am]

BILLING CODE 6690-01-P